DEPARTMENT OF COMMERCE

International Trade Administration

U.S. Section Membership Opportunities to the United States-India CEO Forum

AGENCY: International Trade Administration (ITA), Department of Commerce.

ACTION: Notice.

SUMMARY: This notice announces membership opportunities for appointment, or reappointment, to the U.S. Section of the U.S.-India CEO Forum (“Forum”).

DATES: ITA will accept nominations on a rolling basis for membership on the Forum for terms that will begin upon appointment and will expire on December 31, 2024. Immediate consideration will be given to applications received by March 21, 2022. ITA will accept nominations under this notice on an on-going basis during the charter term to fill vacancies as they arise.

ADDRESSES: For inquiries and an application, please contact Noor Sclafani, International Trade Specialist, Office of South Asia, U.S. Department of Commerce, by email at noor.sclafani@trade.gov.

FOR FURTHER INFORMATION CONTACT: Noor Sclafani, International Trade Specialist, Office of South Asia, U.S. Department of Commerce, telephone: (202) 823-1840.

SUPPLEMENTARY INFORMATION: Established in 2005, the U.S.-India CEO Forum brings together leaders of the respective business communities of the United States and India to discuss issues of mutual interest, particularly ways to strengthen the economic and commercial ties between the two countries, and to communicate their joint recommendations to the U.S. and Indian governments.

The Forum will have U.S. and Indian public and private sector co-chairs. The Secretary of Commerce will serve as a public sector co-chair. Other senior U.S. Government officials may also participate in the Forum.

The Forum also includes U.S. and Indian private sector members, who will be divided into two sections. The U.S. Section will consist of up to 20 members representing the views and interests of the private sector business community in the United States. Each government will appoint the members to its respective Section. The Secretary of Commerce will appoint the U.S. Section and the U.S. Section's private sector co-chair. The Forum will allow the private sector to develop and provide joint recommendations to the two governments that reflect private sector views, needs, concerns, and suggestions about the creation of an environment in which their respective private sectors can partner, thrive, and enhance bilateral commercial ties to expand trade and economic links between the United States and India. The Forum will work in tandem with, and provide input to, the government-to-government U.S.-India Commercial Dialogue.

Candidates are currently being sought for membership in the U.S. Section. Each candidate must be the Chief Executive Officer, President, or equivalent chief executive of a company that is (1) U.S.-owned or controlled, (2) is incorporated in or has its main headquarters or principal place of business in the United States, and (3) is currently conducting business in both countries.

Candidates must be U.S. citizens or otherwise legally authorized to work in the United States and be generally able to travel to India and locations in the United States to attend Forum meetings as well as U.S. Section meetings. Travel and in-person activities are contingent upon the safety and health conditions in the United States and India. Should safety or health conditions not be appropriate for travel and/or in-person activities, a meeting may be postponed or a virtual meeting may be scheduled instead. The candidate may not be a registered foreign agent, nor required to be registered, with the Department of Justice under the Foreign Agents Registration Act (FARA) of 1938, as amended.

Applications for membership in the U.S. Section by eligible individuals will be evaluated based on the following criteria:

(1) A demonstrated commitment by the individual's company to the Indian market either through exports or investment.

(2) A demonstrated strong interest in India and its economic development.

(3) The ability to offer a broad perspective and business experience to the discussions.

(4) The ability to address cross-cutting issues that affect the entire business community.

(5) The ability to initiate and be responsible for activities in which the Forum will be active.

(6) A demonstrated commitment by the individual and/or the individual's company, particularly through activities in India, to:

• Support inclusive economic growth;

• uphold worker rights and labor standards in its global supply chain;

• tackle the COVID-19 pandemic and bolster public health efforts;

• strengthen the resiliency of U.S. supply chains;

• advance environmental sustainability; and

• address climate change.

The U.S. Section of the Forum should include members who represent a diversity of business sectors. Applications from individuals representing companies in all sectors and of all sizes will be considered.

The Department of Commerce is committed to achieving diversity in the membership of the U.S. Section of the Forum to the maximum extent permitted by law and consistent with the need for balanced industry representation. Where possible, the Department of Commerce will also consider the ethnic, racial, and gender diversity of the United States.

U.S. Section members will receive no compensation for their participation in Forum-related activities. Individual members will be responsible for all travel and related expenses associated with their participation, including attendance at Forum and Section meetings. At the meetings, the U.S. and Indian Sections will be expected to offer recommendations to the U.S. and Indian governments. Only appointed members may participate in official Forum meetings; substitutes and alternates may not participate. U.S. Section members will serve for three-year terms but may be reappointed. Members serve at the discretion of the Secretary.

This notice supersedes the notice announcing membership opportunities for appointment, or reappointment, to the U.S. Section of the Forum published in the Federal Register on May 18, 2021 (86 FR 26907).

To be considered for membership in the U.S. Section, please submit the following information as instructed in the ADDRESSES and DATE captions above: Name and title of the applicant; the applicant company's name, place of incorporation, main headquarters address, and principal place of business address (if different); size of the company; size of company's export trade, investment, and nature of operations or interest in India; and a brief statement describing the candidate's qualifications that should be considered, including information about the candidate's ability to initiate and be responsible for activities in which the Forum will be active. The application should also include sufficient information to demonstrate the applicant's company is U.S.-owned or controlled, which may include, for example, an affirmation from the company that a majority of its voting stock is owned by U.S. citizens or other U.S. entities, an affirmation that a majority of its board of directors are U.S. citizens, or other indicia of U.S. ownership or control. Candidates who have previously been members of the U.S. Section or who applied under the previous notice will need to submit new application materials if they want to be considered. All candidates will be notified once selections have been made.

Dated: February 14, 2022.
Noor Sclafani,
International Trade Specialist, Office of South Asia.

[FR Doc. 2022-03514 Filed 2-17-22; 8:45 am]

BILLING CODE 3510-HE-P